DEPARTMENT OF THE INTERIOR

Bureau of Land Management

[WY-100-1430-ES; WYW-153960,WYW-154495]

Notice of Realty Action; Recreation and Public Purposes Act Classification; WY

AGENCY: Bureau of Land Management, Interior.

ACTION: Notice.

SUMMARY: The following two parcels of public land located near Big Piney and Pinedale, Wyoming, have been examined and found suitable for classification for conveyance to Sublette County under the provisions of the Recreation and Public Purposes Act, as amended (43 U.S.C. 869 et seq.). Sublette County intends to use the lands for the existing and to expand Big Piney's shooting sports complex and to expand Pinedale's public shooting sports complex.

Sixth Principal Meridian

T. 30 N., R. 112 W.,

Section 31, Lots 3 and 4., SW¼NE¼SW¼, W½SE¼SW¼, SE¼SE¼SW¼.

T. 33 N., R. 109 W.,

Section 7, Lot 3.

The lands described above comprise a total of 104.33 acres.

FOR FURTHER INFORMATION CONTACT: Detailed information concerning this action is available for review at the Pinedale Field Office, Bureau of Land Management, 432 East Mill ST., P.O. Box 768, Pinedale, WY 82941, or contact John Besse at (307) 367-5313.

SUPPLEMENTARY INFORMATION: The lands are not needed for Federal purposes. Conveyance is consistent with current BLM land use planning and would be in the public interest. The conveyances, when completed, will be subject to the following terms, conditions and reservations:

1. Provisions of the Recreation and Public Purposes Act and to all applicable regulations of the Secretary of the Interior.

2. All valid existing rights documented on the official public land records at the time of patent issuance.

3. All minerals shall be reserved to the United States, together with the right to prospect for, mine and remove the minerals.

4. A right-of-way for ditches and canals constructed under the authority of the United States. Upon publication of this notice in the Federal Register, the lands will be segregated from all other forms of appropriation under the public land laws, including the general mining laws, except for conveyance under the Recreation and Public Purposes Act and leasing under the mining leasing laws.

For a period of 45 days from the date of publication of this notice in the Federal Register, interested parties may submit comments regarding the proposed conveyance or classification of the lands to the Field Manager, Bureau of Land Management, Pinedale Field Office, P.O. Box 768, Pinedale, WY 82941.

The analysis may identify that an amendment to the Pinedale RMP is needed. If a plan amendment is needed, other notices, mailings, or media releases will announce a 30 day protest period on the proposed amendment.

Classification Comments

Interested parties may submit comments involving the suitability of the lands for shooting sports complexes. Comments on the classification should address only whether the lands are physically suited for the specified purpose, whether the use will maximize the future use or uses of the lands and whether the use is consistent with State and Federal programs.

Application Comments

Interested parties may submit comments regarding the specific uses proposed in the conveyance applications and plans of development, whether the BLM followed proper administrative procedures in reaching the decisions, or any other factor not directly related to the suitability of the land for shooting sports complexes. Any adverse comments will be reviewed by the State Director. In the absence of any adverse comments, the classification will become effective 60 days from the date of publication of this notice in the Federal Register.

Dated: May 1, 2002.
Bill Wadsworth,
Acting Field Manager.

[FR Doc. 02-12910 Filed 5-22-02; 8:45 am]

BILLING CODE 4310-ES-P